DEPARTMENT OF LABOR

Comment Request for Information Collection for the H-1B Technical Skills Training (H-1B) and the H-1B Jobs and Innovation Accelerator Challenge (JIAC) Grant Programs, New Collection

AGENCY: Employment and Training Administration, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about H-1B Technical Skills Training (H-1B) [SGA/DFA PY-10-13] and H-1B Jobs and Innovation Accelerator Challenge (JIAC) [SGA/DFA PY-10-15] grant programs. A copy of the proposed Information Collection Request (ICR) can be obtained by contacting the office listed below in the addresses section of this notice.

DATES: Written comments must be submitted to the office listed in the addresses section below on or before March 23, 2012.

ADDRESSES: Submit written comments to Employment and Training Administration, 200 Constitution Avenue NW., Room C-4518, Washington, DC 20210, Attention: Sarah Sunderlin. Telephone number: (202) 693-3949 (this is not a toll-free number). Fax: (202) 693-3890. Email: dsi@dol.gov.

SUPPLEMENTARY INFORMATION:

I. Background

In applying for both H-1B grant programs, grantees agree to submit participant-level data and quarterly aggregate reports for individuals who receive services through H-1B programs and their partnerships with business-related nonprofit organizations, education and training providers, including community colleges and other community-based organizations, entities involved in administering the workforce investment system established under Title I of WIA, and economic development agencies, among others. The reports include aggregate data on demographic characteristics, types of services received, placements, outcomes, and follow-up status. Specifically, they summarize data on participants who received employment and training services, placement services, and other services essential to successful unsubsidized employment through H-1B programs.

This document requests approval for a new information collection to meet the (1) reporting, (2) recordkeeping and (3) program evaluation requirements of both H-1B grant programs through an ETA-provided, Web-based Management Information System (MIS).

Three outcome measures will be used to measure success in the H-1B grants: Entered employment rate, employment retention rate (this includes incumbent workers who retain their positions or advance into new positions and get wage gains after the program), and the average six-month post-program earnings. All of these conform to the common performance measures implemented across Federal job training programs as of July 1, 2005. By standardizing the reporting and performance requirements of different programs, the common measures give ETA the ability to compare across programs the core goals of the workforce system—how many people entered jobs; how many stay employed; and how many successfully completed an educational or vocational training program. In addition to the three outcome measures, grantees will report on a number of leading indicators that serve as predictors of success. These include placement into unsubsidized jobs, attainment of degrees or certificates, placement into post-secondary education or vocational training, on-the-job training (OJT), classroom occupational training, contextualized learning, distance learning, and customized training, including incumbent worker training, and placement into high-growth industries and occupations.

Although the common measures are an integral part of ETA's performance accountability system, these measures provide only part of the information necessary to effectively oversee the workforce investment system. ETA also collects data from H-1B grantees on program activities, participants, and outcomes that are necessary for effective program management and conveying full and accurate information on the performance of H-1B programs to policymakers and stakeholders.

This information collection maintains a reporting and recordkeeping system for a minimum level of information collection that is necessary to comply with Equal Opportunity requirements, to hold H-1B grantees appropriately accountable for the Federal funds they receive, including common performance measures, and to allow the Department to fulfill its oversight and management responsibilities.

The information collection for program evaluation includes setting up a Participant Tracking System (PTS) through the MIS with baseline information similar to the quarterly reports but at the individual participant level. The baseline data covered by this clearance will enable the evaluation to describe the characteristics of study participants at the time they are randomly assigned to a treatment or control group, ensure that random assignment was conducted properly, create subgroups for the analysis, provide contact information to locate individuals for follow-up surveys, and improve the precision of the impact estimates. Such data will be collected on the basis that the evaluation will consist of an experimental design employing random assignment of participants into treatment and control groups. A Web-based PTS will execute the random assignment procedures and compile baseline data on study sample members. This PTS will assure that participant data will be in a consistent format across sites.

A rigorous program evaluation also requires clear and specific documentation of the services provided to treatment group members in each of the grantee sites and the services available to control group members. This qualitative information will enable the evaluation to describe the program design and operations in each site, interpret the impact analysis results, and identify lessons learned for purposes of program replication. The process study site visits will include semi-structured interviews and focus group discussions with various program stakeholders.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: New collection.

Title: H-1B Technical Skills Training and H-1B Jobs and Innovation Accelerator Challenge grant programs.

OMB Number: OMB Control Number 1205-0NEW.

Estimated Total Burden Hours
Form/activity | Estimated total respondents | Frequency | Total annual response | Average time per response (hours) | Total annual burden hours | Hourly rate for data entry person ($) | Total annual burden cost ($)
Participant Data Collection (including baseline data for evaluation) | 85 Grantees, 12,000 participants | Continual | 12,000 | 2.66 | 31,920 | 14.37 | 458,690.4
Quarterly Narrative Progress Report | 85 Grantees, 12,000 participants | Quarterly | 340 | 10 | 3400 | 14.37 | 48,858
Quarterly Performance Report | 85 Grantees, 12,000 participants | Quarterly | 340 | 10 | 3400 | 14.37 | 48,858
Site Visit Data Collection | 150 total staff | Twice | 300 | 1 hour | 300 | 18.76 | 5,628
Totals |  |  | 12,980 | 23.66 | 39,020 |  | 562,034.4

Affected Public: H-1B Grantees and program participants.

Form(s): Total Annual Respondents: 85 grantees.

Annual Frequency: Quarterly.

Comments submitted in response to this comment request will be summarized and/or included in the request for Office of Management and Budget approval of the information collection request; they will also become a matter of public record.

Dated: Signed in Washington, DC, on this 17th day of January 2012.
Jane Oates,
Assistant Secretary, Employment and Training Administration.

[FR Doc. 2012-1226 Filed 1-20-12; 8:45 am]

BILLING CODE 4510-FT-P